DEPARTMENT OF COMMERCE

International Trade Administration

[C-570-950]

Wire Decking From the People's Republic of China: Correction to the Final Affirmative Countervailing Duty Determination

AGENCY: Import Administration, International Trade Administration, Department of Commerce.

DATES: Effective Date: June 18, 2010.

FOR FURTHER INFORMATION CONTACT: Kristen Johnson or John Conniff at (202) 482-4793 or (202) 482-1009, respectively; AD/CVD Operations, Office 3, Operations, Import Administration, Room 4014, International Trade Administration, U.S. Department of Commerce, 14th Street and Constitution Avenue, NW., Washington, DC 20230.

Background:

On June 10, 2010, the Department of Commerce (the Department) published in the Federal Register the final affirmative countervailing duty determination of wire decking from the People's Republic of China (PRC). See Wire Decking from the People's Republic of China: Final Affirmative Countervailing Duty Determination, 75 FR 32902 (June 10, 2010). The Department has discovered typographical errors in the table under the net subsidy ad valorem rate of the Suspension of Liquidation section.

The rates for two of the producers and exporters in the net subsidy ad valorem rate are incorrect. The correct rates of the producers and exporters should read as follows:

Final Determination Margin
Producer/exporter | Net subsidy ad valorem rate (percent)
Alida Wire Mesh & Wire Cloth Mfg. | 437.11
Jiangdong Xinguang Metal Product Co. | 437.11

Accordingly, we correct the final affirmative countervailing duty determination of wire decking from the PRC as noted above.

This amended determination is issued and published in accordance with sections 705(c)(1)(B)(i)(I) and 776 of the Act, as amended.

Dated: June 15, 2010.
Paul Piquado,
Acting Deputy Assistant Secretary for Import Administration.

[FR Doc. 2010-14801 Filed 6-17-10; 8:45 am]

BILLING CODE 3510-DS-P